DEPARTMENT OF ENERGY

Federal Energy Regulatory Commission

Combined Notice of Filings #1

July 15, 2009.

Take notice that the Commission received the following electric corporate filings:

Docket Numbers: EC09-94-000.

Applicants: Covanta Holding Corporation, Veolia Environmental Services North Amer, Montenay International Corp, MONTENAY MONTGOMERY LTD PARTNERSHIP

Description: Joint Application for Authorization of Disposition of Facilities under Section 203 of the Federal Power Act and Request for Expedited Consideration and Waivers of Montenay Montgomery Limited Partnership, et al.

Filed Date: 07/13/2009.

Accession Number: 20090713-5232.

Comment Date: 5 p.m. Eastern Time on Monday, August 3, 2009.

Take notice that the Commission received the following exempt wholesale generator filings:

Docket Numbers: EG09-74-000.

Applicants: Fox Islands Wind LLC.

Description: Self Certification Notice of Exempt Wholesale Generator Status of Fox Islands Wind LLC.

Filed Date: 07/15/2009.

Accession Number: 20090715-5048.

Comment Date: 5 p.m. Eastern Time on Wednesday, August 5, 2009.

Docket Numbers: EG09-75-000.

Applicants: BP Alternative Energy North America, Inc.

Description: Notice of Self-Certification of Rolling Thunder I Power Partners, LLC as an Exempt Wholesale Generator.

Filed Date: 07/15/2009.

Accession Number: 20090715-5051.

Comment Date: 5 p.m. Eastern Time on Wednesday, August 5, 2009.

Take notice that the Commission received the following electric rate filings:

Docket Numbers: ER03-552-011; ER03-984-009.

Applicants: New York Independent System Operator, Inc.

Description: Status Report of New York Independent System Operator, Inc.

Filed Date: 07/15/2009.

Accession Number: 20090715-5015.

Comment Date: 5 p.m. Eastern Time on Wednesday, August 5, 2009.

Docket Numbers: ER09-1339-002.

Applicants: Grand Ridge Energy II LLC.

Description: Grand Ridge Energy II LLC submits supplement to the market-based rate application it filed with the FERC on 6/25/09, as supplemented on 6/26/09.

Filed Date: 07/14/2009.

Accession Number: 20090715-0135.

Comment Date: 5 p.m. Eastern Time on Tuesday, August 4, 2009.

Docket Numbers: ER09-1340-002.

Applicants: Grand Ridge Energy III LLC.

Description: Grand Ridge Energy III LLC submits supplement to the market-based rate application it filed with the FERC on 6/25/09, as supplemented on 6/26/09.

Filed Date: 07/15/2009.

Accession Number: 20090715-0137.

Comment Date: 5 p.m. Eastern Time on Wednesday, August 5, 2009.

Docket Numbers: ER09-1341-002.

Applicants: Grand Ridge Energy IV LLC.

Description: Grand Ridge Energy II LLC submits supplement to the market-based rate application it filed with the FERC on 6/25/09, as supplemented on 6/26/09.

Filed Date: 07/14/2009.

Accession Number: 20090715-0136.

Comment Date: 5 p.m. Eastern Time on Tuesday, August 4, 2009.

Docket Numbers: ER09-1342-002.

Applicants: Grand Ridge Energy V LLC.

Description: Grand Ridge Energy V LLC submits supplement to the market based rate application filed on 6/25/09, as supplemented on 6/26/09.

Filed Date: 07/14/2009.

Accession Number: 20090715-0134.

Comment Date: 5 p.m. Eastern Time on Tuesday, August 4, 2009.

Docket Numbers: ER09-1412-000.

Applicants: U.S. Energy Partners LLC.

Description: US Energy Partners LLC submits Petition for Acceptance of Initial Tariff, Waivers and Blanket Authority FERC Electric Tariff, Original Volume 1, effective 9/10/09.

Filed Date: 07/13/2009.

Accession Number: 20090715-0099.

Comment Date: 5 p.m. Eastern Time on Monday, August 3, 2009.

Docket Numbers: ER09-1445-000.

Applicants: Midwest Independent Transmission System Operator, Inc.

Description: Midwest Independent Transmission System Operator, Inc. submits an executed Generator Interconnection Agreement with Northern States Power Company et al.

Filed Date: 07/13/2009.

Accession Number: 20090714-0011.

Comment Date: 5 p.m. Eastern Time on Monday, August 3, 2009.

Docket Numbers: ER09-1446-000.

Applicants: PJM Interconnection L.L.C.

Description: PJM Interconnection, LLC submits Original Service Agreement 2205 to FERC Electric Tariff, Sixth Revised Volume 1.

Filed Date: 07/13/2009.

Accession Number: 20090714-0065.

Comment Date: 5 p.m. Eastern Time on Monday, August 3, 2009.

Docket Numbers: ER09-1447-000.

Applicants: Xcel Energy Operating Companies.

Description: Xcel Energy Operating Companies submits Original Sheet 1 et al to FERC Electric Tariff, Original Volume 5, Service Agreement 223-PSCo.

Filed Date: 07/13/2009.

Accession Number: 20090714-0056.

Comment Date: 5 p.m. Eastern Time on Monday, August 3, 2009.

Docket Numbers: ER09-1448-000.

Applicants: Southern California Edison Company.

Description: Southern California Edison Company submits First Revised Sheet 7 et al to FERC Electric Tariff, First Revised Volume 5 Service Agreement 90.

Filed Date: 07/13/2009.

Accession Number: 20090714-0057.

Comment Date: 5 p.m. Eastern Time on Monday, August 3, 2009.

Docket Numbers: ER09-1449-000.

Applicants: NorthWestern Corporation.

Description: NorthWestern Corporation submits its Average System Cost filing for sales of electric power to the Bonneville Power Administration.

Filed Date: 07/13/2009.

Accession Number: 20090714-0087.

Comment Date: 5 p.m. Eastern Time on Monday, August 3, 2009.

Docket Numbers: ER09-1451-000.

Applicants: Bayside Power L.P.

Description: Bayside Power, LP submits Notice of Cancellation of Market Based Rate Tariff.

Filed Date: 07/14/2009.

Accession Number: 20090714-0095.

Comment Date: 5 p.m. Eastern Time on Tuesday, August 4, 2009.

Docket Numbers: ER09-1452-000.

Applicants: PacifiCorp.

Description: PacifiCorp submits an updated Appendix A to the Second Amended and Restated Transmission Service and Operating Agreement.

Filed Date: 07/14/2009.

Accession Number: 20090714-0096.

Comment Date: 5 p.m. Eastern Time on Tuesday, August 4, 2009.

Take notice that the Commission received the following electric securities filings:

Docket Numbers: ES09-39-000.

Applicants: Duquesne Light Company.

Description: Application of Duquesne Light Company for Order authorizing issuance of short-term indebtedness.

Filed Date: 07/14/2009.

Accession Number: 20090714-5141.

Comment Date: 5 p.m. Eastern Time on Tuesday, August 4, 2009.

Take notice that the Commission received the following open access transmission tariff filings:

Docket Numbers: OA08-72-004.

Applicants: Northwestern Corporation (Montana).

Description: Compliance Filing of Northwestern Corporation (Montana).

Filed Date: 07/14/2009.

Accession Number: 20090714-5104.

Comment Date: 5 p.m. Eastern Time on Tuesday, August 4, 2009.

Docket Numbers: OA97-93-001; TS04-178-001.

Applicants: The Empire District Electric Company.

Description: The Empire District Electric Company Notice of Change in Facts and Request for Renewal of Waiver of Standards of Conduct, or, in the Alternative, Request for Extension of Time to Comply With the Standards of Conduct.

Filed Date: 07/13/2009.

Accession Number: 20090713-5233.

Comment Date: 5 p.m. Eastern Time on Monday, August 3, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-17362 Filed 7-21-09; 8:45 am]

BILLING CODE 6717-01-P